DEPARTMENT OF COMMERCE

International Trade Administration

[A-423-812]

Initiation of Antidumping and Countervailing Duty Administrative Reviews; and Certain Carbon and Alloy Steel Cut-To-Length Plate From Belgium: Preliminary Results and Partial Rescission of Antidumping Duty Administrative Review; 2020-2021; Correction

AGENCY: Enforcement and Compliance, International Trade Administration, Department of Commerce.

ACTION: Notice; correction.

SUMMARY: The U.S. Department of Commerce (Commerce) published notices in the Federal Register of July 6, 2021, and June 6, 2022, respectively, in which Commerce announced the initiation and preliminary results and partial rescission of the 2020-2021 administrative review of the antidumping duty (AD) order on certain carbon and alloy steel cut-to-length plate (CTL Plate) from Belgium. In these notices, Commerce inadvertently misspelled the company name of NLMK Verona SpA, a company for which we initiated and subsequently rescinded an administrative review.

FOR FURTHER INFORMATION CONTACT: Alex Wood, AD/CVD Operations, Office II, Enforcement and Compliance, International Trade Administration, U.S. Department of Commerce, 1401 Constitution Avenue NW, Washington, DC 20230; telephone: (202) 482-1959.

SUPPLEMENTARY INFORMATION:

Correction

In the Federal Register of July 6, 2021, in FR Doc 2021-14290, on page 35484, in the first column, and in the Federal Register of June 6, 2022, in FR Doc 2022-12086, on page 34246, in the third column, correct the name NLMK Verona SpP to NLMK Verona SpA.

Background

On July 6, 2021, and June 6, 2022, respectively, Commerce published in the Federal Register an initiation of the 2020-2021 AD administrative review on CTL plate from Belgium and the preliminary results and partial rescission of the 2020-2021 AD administrative review on CTL Plate from Belgium.¹ In these notices, we incorrectly spelled the company name of NLMK Verona SpA, a company for which Commerce initiated and subsequently rescinded an administrative review.

¹ See Initiation of Antidumping and Countervailing Duty Administrative Reviews, 86 FR 35481 (July 6, 2021); see also Certain Carbon and Alloy Steel Cut-To-Length Plate From Belgium: Preliminary Results and Partial Rescission of Antidumping Duty Administrative Review; 2020-2021, 87 FR 34244 (June 6, 2022).

Notification to Interested Parties

This notice is issued and published in accordance with sections 751(a)(1) and 777(i)(1) of the Tariff Act of 1930, as amended, and 19 CFR 351.221(b)(4) and 19 CFR 351.221(c)(1)(i).

Dated: July 5, 2022.
Ryan Majerus,
Deputy Assistant Secretary for Policy and Negotiations.

[FR Doc. 2022-14706 Filed 7-8-22; 8:45 am]

BILLING CODE 3510-DS-P